DEPARTMENT OF JUSTICE

[AAG/A Order No. 274-2002]

Privacy Act of 1974; System of Records

Pursuant to the Privacy Act of 1974 (5 U.S.C. 552a), notice is given that the Federal Bureau of Prisons (Bureau) proposes to modify its system of records entitled “Federal Tort Claims Act Record System, JUSTICE/BOP-009.” This system, as last published on September 28, 1978 (43 FR 44737), previously covered only those claims submitted to the Bureau pursuant to the Federal Tort Claims Act, 28 U.S.C. 2675 (FTCA). It is now being expanded to include administrative claims submitted to the Bureau pursuant to the Military Personnel and Civilian Employees Claims Act, 31 U.S.C. 3721 (CECA), and the Bureau of Prisons Claims Act, 31 U.S.C. 3722 (BOPCA). To reflect this change, the system is being re-titled “Administrative Claims Record System, JUSTICE/BOP-009.” This system, as now modified, will become effective 60 days from the date of publication in the Federal Register.

Other modifications to the system include updating the system's locations, description of the Categories of Records, and the purpose of the system. A number of other changes were made to update, clarify and/or improve other sections. For example, the section describing Storage has been modified to include all updated technical improvements, including digital recordings and Compact Discs (CDs). The entire Routine Use section has been re-organized and expanded. The exemptions previously promulgated at 28 CFR 16.97 (a) and (b) remain the same.

Title 5 U.S.C. 552a (e)(4) and (11) provide that the public be provided a 30-day period in which to comment. The Office of Management and Budget (OMB), which has oversight responsibilities under the Privacy Act, requires that it be given a 40-day period in which to review the system. Therefore, please submit any comments by July 18, 2002.

The public, OMB, and the Congress are invited to send written comments to Mary Cahill, Management and Planning Staff, Justice Management Division, Department of Justice, Washington, DC 20530 (1400 National Place Building).

In accordance with 5 U.S.C. 552a(r), the Department has provided a report to OMB and the Congress on the proposed modification.

A description of the modified system is provided below.

Dated: June 5, 2002.
Robert F. Diegelman,
Acting Assistant Attorney General for Administration.

JUSTICE/BOP-009

SYSTEM NAME:

Administrative Claims Record System.

SYSTEM LOCATION:

Records may be retained at the Central Office, Regional Offices, or at any of the Federal Bureau of Prisons (Bureau) facilities, or at any location operated by a contractor authorized to provide computer and/or correctional services to Bureau inmates. A list of Bureau facilities may be found at 28 CFR part 503 and on the Internet at http://www.bop.gov.

CATEGORIES OF INDIVIDUALS COVERED BY THE SYSTEM:

Current and former inmates, including pre-trial detainees, under the custody of the Attorney General and/or the Director of the Bureau of Prisons, civilians who are claimants under the Federal Tort Claims Act (FTCA), current and former employees who are claimants under the FTCA, the Military Personnel and Civilian Employees Claims Act (CECA), and the Bureau of Prisons Claims (BOPCA).

CATEGORIES OF RECORDS IN THE SYSTEM:

Records in this system include: (1) Claims and supporting documents; (2) personal data regarding the claimant, including name, register number (if an inmate or former inmate), address, social and criminal background (if applicable), and employment history; (3) investigative reports; (4) medical reports; (5) property records; (6) litigation reports, pleadings and decisions (7) correspondence; and (8) processing data, including dates of receiving and responding to the claim.

AUTHORITY FOR MAINTENANCE OF THE SYSTEM:

The system is established and maintained under authority of the Federal Tort Claims Act, 28 U.S.C. 2671 et seq. (FTCA); the Military Personnel and Civilian Employees Claims Act, 31 U.S.C. 3721 (CECA); and the Bureau of Prisons Claims Act, 31 U.S.C. 3722 (BOPCA).

PURPOSE OF THE SYSTEM:

The purpose of this system is to process and track administrative claims submitted to the Bureau under the FTCA, the CECA, and the BOPCA. The system is maintained to assist in the processing of these claims for personal injury and/or property damages and to provide an information source for subsequent litigation concerning these claims in United States Courts.

ROUTINE USES OF RECORDS MAINTAINED IN THE SYSTEM, INCLUDING CATEGORIES OF USERS AND THE PURPOSES OF SUCH USES:

Relevant data from this system will be disclosed as follows:

(a) To Federal, State, local, foreign and international law enforcement agencies and officials for law enforcement purposes such as civil court actions, regulatory proceedings, responding to an emergency, inmate disciplinary proceedings; or for such law enforcement needs as prison administration, investigations, and possible criminal prosecutions.

(b) To contractors, grantees, experts, consultants, students, and others performing or working on a contract, service, grant, cooperative agreement, or other assignment for the Federal Government, when necessary to accomplish an agency function related to this system of records;

(c) To Members of Congress or staff acting upon the Member's behalf when the Member or staff requests the information on behalf of and at the request of the record subject;

(d) To the news media and the public pursuant to 28 CFR 50.2 unless it is determined that release of the specific information in the context of a particular case would constitute an unwarranted invasion of personal privacy;

(e) To the National Archives and Records Administration and General Services Administration in records management inspections conducted under the authority of 44 U.S.C. 2904 and 2906;

(f) In a proceeding before a court, grand jury, or administrative or regulatory body when the records are determined by the Department of Justice to be arguably relevant to the proceeding;

(g) To a federal, state, or local licensing agency or association which requires information concerning the suitability or eligibility of an individual for a license or permit;

(h) Pursuant to subsection (b)(3) of the Privacy Act, the Department of Justice may disclose relevant and necessary information to a former employee of the Department for purposes of: responding to an official inquiry by a Federal, State, or local government entity or professional licensing authority, in accordance with applicable Department regulations; or facilitating communications with a former employee that may be necessary for personnel-related or other official purposes where the Department requires information and/or consultation assistance from the former employee regarding a matter within that person's former area of responsibility; and

(i) To any person or entity to the extent necessary to prevent an immediate loss of life or serious bodily injury.

POLICIES AND PRACTICES FOR STORING, RETRIEVING, ACCESSING, RETAINING, AND DISPOSING OF RECORDS IN THE SYSTEM:

STORAGE:

Information maintained in the system is stored in electronic media via a configuration of personal computer, client/server, and mainframe systems architecture and may be accessed by those with a need-to-know at all Bureau and contractor facilities. Some information may be stored in other computerized media, e.g., hard disk, floppy diskettes, magnetic tape, digital recordings, Compact Discs (CDs), and/or optical disks. Documentary records are maintained in manual file folders and/or on index card files.

RETRIEVABILITY:

Documents are indexed by the claimant's name and/or claim number.

Safeguards:

Information is safeguarded in accordance with Bureau rules and policy governing automated information systems security and access. These safeguards include the maintenance of records and technical equipment in restricted areas and the proper use of passwords and user identification codes to access the system. Automated equipment and manual records are stored in guarded buildings and can be accessed only by authorized personnel through passwords and identification codes.

Retention and Disposal:

Information in this system is maintained for twelve (12) years after close of case, at which time documentary records are destroyed by shredding. Electronic records are erased after ninety (90) days unless archived into the case file.

System Manager(s) and Address:

Assistant Director/General Counsel, Federal Bureau of Prisons; 320 First Street NW., Washington, DC 20534.

Notification Procedure:

Inquiries should be directed to the System Manager listed above.

Record Access Procedures:

All requests for records may be made by writing to the System Manager identified above, Federal Bureau of Prisons, 320 First Street NW., Washington, DC 20534. The envelope should be clearly marked “Privacy Act Request.” This system of records is exempted from access pursuant to 5 U.S.C. 552a(j). A determination as to the applicability of the exemption to a particular record(s) shall be made at the time a request for access is received.

Contesting Record Procedures:

Same as above.

Record Source Categories:

Records are generated by: claimants; inmates; Bureau staff; Federal, State, local, tribal, and foreign law enforcement agencies; Federal/State probation and judicial offices; Congress; contract and consulting physicians, including hospitals; and attorneys for claimants.

Systems Exempted from Certain Provisions of the Act:

The Attorney General has exempted this system from subsections (c)(3) and (4), (d), (e)(2), (e)(3), (e)(4)(H), (e)(8), (f) and (g) of the Privacy Act pursuant to 5 U.S.C. 552a(j). Rules have been promulgated in accordance with the requirements of 5 U.S.C. 553(b), (c) and (e) and have been published in the Federal Register and codified at 28 CFR 16.97(a) and (b).

[FR Doc. 02-15299 Filed 6-17-02; 8:45 am]

BILLING CODE 4410-05-P